DEPARTMENT OF ENERGY

Federal Energy Regulatory Commission

[Docket No. AD22-8-000]

Transmission Planning and Cost Management; Notice Extending Nominations for Technical Conference

As announced in the Notice of Technical Conference issued in this proceeding on April 21, 2022, the Federal Energy Regulatory Commission (Commission) will convene a Commissioner-led technical conference regarding transmission planning and cost management for transmission facilities developed through local or regional transmission planning processes in the above-captioned proceeding on October 6, 2022, from approximately 9:00 a.m. to 5:00 p.m. Eastern Time. In the Notice of Technical Conference, individuals interested in participating as panelists were instructed to submit a self-nomination email by 5:00 p.m. Eastern Time on June 16, 2022.

In this supplemental notice we extend the date for individuals interested in participating as panelists to submit a self-nomination by 45 days. Individuals interested in participating as panelists should submit a self-nomination email by 5:00 p.m. Eastern Time on August 1, 2022, to john.riehl@ferc.gov. Each nomination should state the proposed panelist's name, contact information, organizational affiliation, and what topics the proposed panelist would speak on. A separate notice will be issued to establish technical conference topics and details.

For more information about this technical conference, please contact John Riehl at john.riehl@ferc.gov or (202) 502-6026. For information related to logistics, please contact Sarah McKinley at sarah.mckinley@ferc.gov or (202) 502-8368.

Dated: June 6, 2022.
Debbie-Anne A. Reese,
Deputy Secretary.

[FR Doc. 2022-12517 Filed 6-9-22; 8:45 am]

BILLING CODE 6717-01-P